DEPARTMENT OF ENERGY

Federal Energy Regulatory Commission

Combined Notice of Filings

Take notice that the Commission has received the following Natural Gas Pipeline Rate and Refund Report filings:

Filings Instituting Proceedings

Docket Numbers: RP16-137-011.

Applicants: Tallgrass Interstate Gas Transmission, LLC.

Description: Tallgrass Interstate Gas Transmission, LLC submits tariff filing per 154.203: Cancellation of Fifth Revised Volume No. 1 to be effective 4/1/2017.

Filed Date: 03/01/2017.

Accession Number: 20170301-5306.

Comment Date: 5:00 p.m. Eastern Time on Monday, March 13, 2017.

Docket Numbers: RP17-510-000.

Applicants: WBI Energy Transmission, Inc.

Description: WBI Energy Transmission, Inc. submits tariff filing per 154.204: 2017 Non-conforming SA FT-1388 to be effective 4/1/2017.

Filed Date: 03/02/2017.

Accession Number: 20170302-5004.

Comment Date: 5:00 p.m. Eastern Time on Tuesday, March 14, 2017.

Docket Numbers: RP17-511-000.

Applicants: Dauphin Island Gathering Partners.

Description: Dauphin Island Gathering Partners submits tariff filing per 154.204: Tariff Sections Update to be effective 4/1/2017.

Filed Date: 03/02/2017.

Accession Number: 20170302-5005.

Comment Date: 5:00 p.m. Eastern Time on Tuesday, March 14, 2017.

Docket Numbers: RP17-512-000.

Applicants: Ruby Pipeline, L.L.C.

Description: Ruby Pipeline, L.L.C. submits tariff filing per 154.204: Index Price Update Filing to be effective 4/1/2017.

Filed Date: 03/02/2017.

Accession Number: 20170302-5006.

Comment Date: 5:00 p.m. Eastern Time on Tuesday, March 14, 2017.

Docket Numbers: RP17-515-000.

Applicants: Equitrans, L.P.

Description: Equitrans, L.P. submits tariff filing per 154.204: Mountaineer Keystone Name Change to Arsenal Resources to be effective 2/23/2017.

Filed Date: 03/02/2017.

Accession Number: 20170302-5061.

Comment Date: 5:00 p.m. Eastern Time on Tuesday, March 14, 2017.

Docket Numbers: RP17-516-000.

Applicants: Kern River Gas Transmission Company.

Description: Kern River Gas Transmission Company submits tariff filing per 154.203: 2017 Stipulation Agreement Compliance Filing to be effective 5/1/2017.

Filed Date: 03/02/2017.

Accession Number: 20170302-5175.

Comment Date: 5:00 p.m. Eastern Time on Tuesday, March 14, 2017.

Docket Numbers: RP17-517-000.

Applicants: National Fuel Gas Supply Corporation.

Description: National Fuel Gas Supply Corporation submits tariff filing per 154.204: Amendment to Service Agreement FT #F12205 to be effective 4/1/2017.

Filed Date: 03/02/2017.

Accession Number: 20170302-5191.

Comment Date: 5:00 p.m. Eastern Time on Tuesday, March 14, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 6, 2017.
Nathaniel J. Davis, Sr.,
Deputy Secretary.

[FR Doc. 2017-04748 Filed 3-9-17; 8:45 am]

BILLING CODE 6717-01-P